POSTAL SERVICE

Sunshine Act Meetings

TIME AND DATE: Tuesday, September 9, 2025, at 9:00 a.m. EST.

PLACE: Washington, DC, at U.S. Postal Service Headquarters, 475 L'Enfant Plaza, SW.

STATUS: Closed.

MATTERS TO BE CONSIDERED:

1. Strategic Matters.

2. Financial Matters.

3. Administrative Matters.

General Counsel Certification: The General Counsel of the United States Postal Service has certified that the meeting may be closed under the Government in the Sunshine Act, 5 U.S.C. 552b.

CONTACT PERSON FOR MORE INFORMATION: Lucy C. Trout, Secretary of the Board of Governors, U.S. Postal Service, 475 L'Enfant Plaza, SW, Washington, DC 20260-1000. Telephone: (202) 268-4800.

Lucy C. Trout,
Secretary.

[FR Doc. 2025-16736 Filed 8-28-25; 11:15 am]

BILLING CODE 7710-12-P